FEDERAL RESERVE SYSTEM

Change in Bank Control Notices; Acquisition of Shares of Bank or Bank Holding Company; Correction

This notice corrects a notice (FR Doc. 05-4788) published on page 12218 of the issue for Friday, March 11, 2005.

Under the Federal Reserve Bank of Kansas City heading, the entry for David Buford, Stephen Buford, Sam Buford, Ernest Dillard, Sheila Dillard, Aaron Dillard, and Hannah Dillard, all of Tulsa, Oklahoma, is revised to read as follows:

B. Federal Reserve Bank of Kansas City (Donna J. Ward, Assistant Vice President) 925 Grand Avenue, Kansas City, Missouri 64198-0001:

1. Daniel Buford, Stephen Buford, Sam Buford, Ernest Dillard, Sheila Dillard, Aaron Dillard, and Hannah Dillard, all of Tulsa, Oklahoma; Sharon Linsenmeyer, Beatrice, Nebraska; and Sarah Dillard, Tampa, Florida; to acquire voting shares of Healthcare Bancorp, Inc., and thereby indirectly acquire voting shares of First BankCentre, both of Broken Arrow, Oklahoma.

Comments on this application must be received by March 25, 2005.

Board of Governors of the Federal Reserve System, March 18, 2005.
Robert deV. Frierson,
Deputy Secretary of the Board.

[FR Doc. 05-5783 Filed 3-23-05; 8:45 am]

BILLING CODE 6210-01-S